DEPARTMENT OF ENERGY

Federal Energy Regulatory Commission

[Docket No. CP98-234-002]

Northern Natural Gas Company; Notice of Compliance Filing

February 14, 2000.

Take notice that on February 9, 2000, Northern Natural Gas Company (Northern) tendered for filing to become part of Northern's FERC Gas Tariff, Original Volume No. 2, the following tariff sheet proposed to be effective on February 21, 2000:

Fifth Revised Sheet No. 313

Northern states that the above-referenced sheet is being re-filed solely to correct the pagination to Fifth Revised Sheet No. 313. On January 21, 2000, Northern filed tariff sheets to cancel Rate Schedule X-22 from Northern's Original Volume No. 2 tariff in compliance with the Commission's Order issued December 22, 1999 in Docket No. CP98-234-000. However, Sheet No. 313 was incorrectly paginated as Fourth Revised Sheet No. 313.

Northern states that copies of the filing were served upon the company's customers and interested state Commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-3902 Filed 2-17-00; 8:45 am]

BILLING CODE 6717-01-M